FEDERAL MARITIME COMMISSION

[Docket No. 00-02]

Crowley Liner Services, Inc. and Trailer Bridge, Inc., v. Puerto Rico Ports Authority; Notice of Filing of Complaint and Assignment

Notice is given that a complaint was filed by Crowley Liner Services, Inc. and Trailer Bridge, Inc. (“Complainants”), against Puerto Rico Ports Authority (“Respondent”). The complaint was served on January 20, 2000. Complainants allege that Respondent violated sections 10 (d)(1) and (d)(4) of the Shipping Act of 1984, 46 U.S.C. app. § § 1709 (d)(1) and (d)(4), and violated the terms of a Settlement Agreement in FMC Docket No. 95-10, by assessing excess dockage charges on the basis of a new vessel measurement system contrary to the terms of its tariffs, giving no notice of such changes, and not following procedures as set forth in the Settlement Agreement.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by January 22, 2001, and the final decision of the Commission shall be issued by May 22, 2001.

Bryant L. VanBrakle,
Secretary.

[FR Doc. 00-1855 Filed 1-25-00; 8:45 am]

BILLING CODE 6730-01-M